DEPARTMENT OF HOUSING AND URBAN DEVELOPMENT

[Docket No. FR 6069-N-01]

Advanced Notice of EnVision Center Demonstration

AGENCY: Office of the Secretary, HUD.

ACTION: Notice.

SUMMARY: Through this notice, HUD solicits comment on a demonstration designed to test the effectiveness of collaborative efforts by government, industry, and nonprofit organizations to accelerate economic mobility of low-income households in communities that include HUD-assisted housing through EnVision Centers, centralized hubs for supportive services focusing on the four pillars of Economic Empowerment, Educational Advancement, Health and Wellness, and Character and Leadership. Approximately 10 communities, selected from across the country, are anticipated to participate in the demonstration. The purpose of the demonstration is to explore the potential of a new service-delivery mechanism to provide HUD-assisted households the ability to benefit from life-changing opportunities that the advancement of the four pillars affords.

DATES: Comment Due Date: February 12, 2018.

ADDRESSES: Interested persons are invited to submit comments responsive to this notice to the Office of General Counsel, Regulations Division, Department of Housing and Urban Development, 451 7th Street SW, Room 10276, Washington, DC 20410-0001. All submissions should refer to the above docket number and title. Submission of public comments may be carried out by hard copy or electronic submission.

1. Submission of Hard Copy Comments. Comments may be submitted by mail or hand delivery. Each commenter submitting hard copy comments, by mail or hand delivery, should submit comments to the address above, addressed to the attention of the Regulations Division. Due to security measures at all federal agencies, submission of comments by mail often results in delayed delivery. To ensure timely receipt of comments, HUD recommends that any comments submitted by mail be submitted at least 2 weeks in advance of the public comment deadline. All hard copy comments received by mail or hand delivery are a part of the public record and will be posted to http://www.regulations.gov without change.

2. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make comments immediately available to the public. Comments submitted electronically through the http://www.regulations.gov website can be viewed by other commenters and interested members of the public. Commenters should follow instructions provided on that site to submit comments electronically.

No Facsimile Comments. Facsimile (fax) comments are not acceptable.

Public Inspection of Comments. All comments submitted to HUD regarding this notice will be available, without charge, for public inspection and copying between 8 a.m. and 5 p.m., Eastern Time, weekdays at the above address. Due to security measures at the HUD Headquarters building, an advance appointment to review the public comments must be scheduled by calling the Regulations Division at 202-708-3055 (this is not a toll-free number). Individuals with speech or hearing impairments may access this number through TTY by calling the Federal Relay Service at 800-877-8339 (this is a toll-free number). Copies of all comments submitted are available for inspection and downloading at http://www.regulations.gov.

FOR FURTHER INFORMATION CONTACT: Ariel Pereira, Associate General Counsel for Legislation and Regulations, Office of General Counsel, Department of Housing and Urban Development, 451 Seventh Street SW, Room 10282, Washington, DC 20410-7000, telephone number 202-402-5132 (this is not a toll-free number). Persons with hearing or speech impairments may access this number through TTY by calling the Federal Relay Service at 800-877-8339 (this is a toll-free number).

SUPPLEMENTARY INFORMATION:

I. Background

Under the leadership of President Donald J. Trump, the Administration is committed to reforming government services and expanding opportunities for more Americans to become self-sufficient. The EnVision Center demonstration focuses on empowering people to leave HUD-assisted housing through self-sufficiency to become responsible homeowners and renters in the private market. By doing so, HUD will be able to make those resources available to others and help more Americans.

The EnVision Centers demonstration is premised on the notion that financial support alone is insufficient to solve the problem of poverty. Intentional and collective efforts across a diverse set of organizations are needed to implement a holistic approach to foster long-lasting self-sufficiency. EnVision Centers will provide communities with a centralized hub for support in the following four pillars: (1) Economic Empowerment, (2) Educational Advancement, (3) Health and Wellness, and (4) Character and Leadership. The Economic Empowerment pillar is designed to improve the economic sustainability of individuals residing in HUD-assisted housing by empowering them with opportunities to improve their economic outlook. The Education pillar seeks to bring educational opportunities directly to HUD-assisted housing and includes partnering with public and private organizations that approach education in non-traditional ways on non-traditional platforms. The Health and Wellness pillar is designed to improve access to health outcomes by individuals and families living in HUD-assisted housing. The Character and Leadership pillar is designed to enable all individuals and families residing in HUD-assisted housing, especially young people, to reach their full potential as productive, caring, responsible citizens by encouraging participation in volunteer and mentoring opportunities.

Through results-driven partnerships with federal agencies, state and local governments, non-profits, faith-based organizations, corporations, public housing authorities (PHAs), tribal designated housing entities (TDHEs) and housing finance agencies, EnVision Centers will leverage public and private resources for the benefit of individuals and families living in HUD-assisted housing. HUD anticipates that positive outcomes for individuals and households will generate additional positive impacts at the community-wide level. EnVision Centers will also break down the silos of government, and co-locate government services that lead to self-sufficiency.

A January 2011 report from the Government Accountability Office (GAO) that focused on Temporary Assistance for Needy Families, Employment Services and Workforce Investment Act Adult employment programs funded by the U.S. Departments of Labor, Education, and Health and Human Services, found that while it would be a challenge, efficiencies in offering government services could be achieved by co-locating services and consolidating administrative structures.¹ EnVision Centers will bring together in one place, federal, state and local government services, community based organization services, non-profit mission based organization services and faith based organization services that lead economic self-sufficiency and ultimately, greater economic mobility.

¹ http://www.gao.gov/new.items/d1192.pdf.

II. Demonstration

Every resident living in public or assisted housing should have access to the opportunities economic mobility can provide. This demonstration is designed to encourage and create a platform for communities to collaborate with community supportive service providers, other businesses, foundations, nonprofit organizations, educational leaders, job training and workforce development organizations, and others to advance economic mobility in their communities and to test the effectiveness of a collaborative set of actions that address all barriers to economic sufficiency. The demonstration will build upon existing partnerships and continue collaborative work to improve the lives of residents housed with HUD assistance by providing a forum by which cross-sector organizations can come together to design and implement local interventions to advance economic mobility.

1. Process and Criteria for Participation

HUD's goal is to identify a sample of diverse communities from different geographies and of varying sizes that have the capacity to effectively and expediently implement the demonstration to serve HUD-assisted families. HUD seeks the interest of communities where local leadership has already taken steps to support the goals of the demonstration, as measured by both the community's participation in other complementary Federal initiatives supporting economic mobility, as well as local plans and strategies for addressing the four pillars.

Participation in the demonstration by these communities will build upon existing efforts already underway to expand economic mobility, thereby building the comprehensive and coordinated set of resources that will result in the long-term, sustainable employment that places individuals and families on track to become self-sufficient.

As part of this demonstration, HUD will provide technical assistance, evaluation and monitoring, access to online resources such as the EnVision Center mobile application, access to stakeholder offerings made available to participating communities and a network of support from HUD's departments to ensure that all relevant HUD knowledge resources are made available to participating communities. HUD believes that communities participating in the EnVision Center demonstration will benefit from the collaboration made possible under this demonstration with: Local, state and federal government services, community based organization services, non-profit mission based organization services and faith based organization services that will lead to the development of economic self-sufficiency and ultimately, greater economic mobility for those most in need within these communities.

HUD will use the following criteria to assess communities that have expressed an interest in participating in the demonstration:

(1) The mayor or equivalent executive elected official of the community, and the PHA's or TDHE's executive leader, must formally announce a commitment to enhance economic mobility and in so doing identify skills gaps that exist in their community among distinct neighborhoods and demographics, the resolution of which will support long-term, sustainable employment that places individuals and families in HUD-assisted housing on track to become self-sufficient.

(2) Communities should commit to developing and implementing a plan to promote and expand economic mobility. The development of this plan will serve as a vehicle for bringing various stakeholders together and providing them with a tangible path for achieving the goals of the demonstration. As an example, the plan could specify and formalize the participation of community stakeholders, describe gaps in current service delivery models, identify a physical location(s) which can act as a shared services site to house the EnVision Center, and/or outline specific benchmarks and goals for the EnVision center. Communities' participation plans will be expected to describe the goals of the community's participation in the demonstration and provide, to the extent possible, objective goals regarding the number of partnerships established with state and local government, non-profits, faith based organizations, and private and philanthropic organizations.

(3) To ensure the presence of local support and leverage HUD infrastructure for implementation of this demonstration, communities should be currently participating in one or more Federal place-based initiatives, such as: The Promise Zones program; PHAs participating in the Moving to Work Demonstration, the Byrne Criminal Justice Innovation program; the Strong Cities, Strong Communities program; the JobsPlus program; the Family Self-Sufficiency program and the Resident Opportunities and Self-Sufficiency (ROSS) program; the ConnectHome program; existing Neighborhood Networks sites; existing Family Investment sites; the ROSS for Education Program; the Energy and Economic Development program (SEED); or the Building Neighborhood Capacity program.

(4) Communities should be broadly committed to realizing the Office of American Innovation ² vision, especially, developing “workforce of the future” programs, modernizing government services and information technology, improving services to veterans, creating transformational infrastructure projects, implementing regulatory and process reforms, creating manufacturing jobs, and addressing the drug and opioid epidemic.

² https://www.whitehouse.gov/the-press-office/2017/03/27/president-donald-j-trump-announces-white-house-office-american.

(5) As a condition of participation, selected entities are required to cooperate in full with HUD staff and/or any contractors affiliated with HUD, in the implementation and evaluation of this program.

(6) After selection, HUD will finalize a set of measurement tools to evaluate the program's impact and effectiveness. Selected respondents will be required to keep records to document how the Demonstration is being implemented, cooperate with the evaluation, and cooperate in [any] the formal independent evaluation of the Demonstration.

These criteria are meant to create optimal conditions to accelerate the adoption and use of the EnVision Center model. However, the criteria may be applied with reasonable flexibility to ensure that a diverse set of communities are considered for participation in this demonstration. Approximately 10 communities are anticipated to initially participate in the demonstration. As the demonstration proceeds, HUD will assess expressions of interest from communities and the availability of HUD staffing resources to support additional participation. Additionally, as the demonstration proceeds, HUD will assess the effectiveness of the participation criteria on an ongoing basis. As a result of these assessments, HUD may expand the number of participating communities, revise the participation criteria, or both to reflect HUD's experience in implementing the demonstration.

3. Stakeholder Meetings

In advance of commencement of the demonstration, HUD will sponsor or co-sponsor one or more meetings of communities, cross-sector entities, and other stakeholders to facilitate the sharing of information and identify communities interested in participation in the demonstration. HUD will reach out to communities that have formally declared a commitment to advance economic mobility and otherwise meet the criteria described above to participate in those meetings. HUD also invites interested communities to reach out to HUD to note their interest and request attendance at a stakeholder meeting. HUD therefore encourages interested communities to take the necessary steps to meet the criteria as quickly as possible in order to be best positioned to realize the benefits of these discussions.

HUD may partner with an existing entity that has a national organizational presence sufficient to provide a strong coordinating function across communities, government, and the private and nonprofit sectors. The entity should have significant expertise in community services, economic mobility and the four pillars. It should possess strong existing relationships with industry, foundations, universities, and nonprofit and non-governmental agencies. Finally, it should have community project experience, including educational and outreach activities in underserved populations.

III. Demonstrating Interest in Participating/Information Collection Approval

Communities interested in participating in this demonstration must submit a written commitment by the mayor or equivalent executive elected official of the community (municipality, county, tribal nation or state), and the PHA or TDHE executive leader, to advancing economic mobility and empowering HUD-assisted households to become self-sufficient. This commitment, must also respond to the items outlined in Section II.1. above, as well as identification of the Federal place-based initiatives in which it is involved, as requested by Section II.1.(3.) above. In addition, HUD will require submission of an EnVision Center plan that outlines specific benchmarks and goals for the EnVision Center as outlined in Section II of this notice. Communities seeking to participate in this demonstration must submit this information to EnVisionCenterDemonstration@hud.gov.

The information collection requirements contained for the EnVision Center Demonstration will be submitted to the Office of Management and Budget (OMB) under the Paperwork Reduction Act of 1995 (44 U.S.C. 3501-3520). In accordance with the Paperwork Reduction Act, an agency may not conduct or sponsor, and a person is not required to respond to, a collection of information unless the collection displays a currently valid OMB control number.

Information collection | Number of respondents | Frequency of responses | Responses per year | Burden hours per response | Annual burden hours | Hourly costs per response | Annual cost
Commitment Letter | 1,650 | 1 | 1,650 | .25 | 412.5 | $28.85 | $11,900.63
Action Plan | 1,650 | 1 | 1,650 | 2 | 3,300 | 28.85 | 94,050
Totals | 1,650 | 1 | 1,650 | 2.25 | 3,712.5 |  | 105,950.63

In accordance with 5 CFR 1320.8(d)(1), HUD is soliciting comments from members of the public and affected agencies concerning this collection of information to:

(1) Evaluate whether the proposed collection of information is necessary for the proper performance of the functions of the agency, including whether the information will have practical utility;

(2) Evaluate the accuracy of the agency's estimate of the burden of the proposed collection of information;

(3) Enhance the quality, utility, and clarity of the information to be collected; and

(4) Minimize the burden of the collection of information on those who are to respond, including through the use of appropriate automated collection techniques or other forms of information technology, e.g., permitting electronic submission of responses.

Interested persons are invited to submit comments regarding the information collection requirements in this notice. Comments must refer to the proposal by name and docket number (FR-6069) and must be sent to:

HUD Desk Officer, Office of Management and Budget, New Executive Office Building, Washington, DC 20503, Fax: (202) 395-6947, and, Office of Legislation and Regulations, Office of General Counsel, Department of Housing and Urban Development, Room 10282, 451 7th Street SW, Washington, DC 20410.

Interested persons may submit comments regarding the information collection requirements electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov website can be viewed by other commenters and interested members of the public. Commenters should follow the instructions provided on that site to submit comments electronically.

IV. Evaluating the Demonstration

HUD will work with entities across the government and the broader research community to rigorously measure outcomes associated with the efforts resulting from this demonstration to advance economic mobility. With this research, HUD intends to improve and build on the demonstration, with the goal of extending the demonstration on a nationwide basis. The participating communities and cross-sector entities are expected to participate in any HUD-sponsored evaluation and other efforts designed to identify and share best practices from the demonstration with other HUD-assisted communities. In addition, participating communities and entities will be required to collaboratively develop and subsequently measure and report outputs and outcomes.

V. Solicitation of Public Comment

In accordance with section 470 of the Housing and Urban-Rural Recovery Act of 1983 (42 U.S.C. 3542), HUD is seeking comment on the demonstration. Section 470 provides that HUD may not begin a demonstration program not expressly authorized by statute until a description of the demonstration program is published in the Federal Register and a 60-day period expires following the date of publication, during which time HUD solicits public comment and considers the comments submitted. The public comment period provided allows HUD the opportunity to consider those comments during the 60-day period, and be in a position to commence implementation of the demonstration following the conclusion of the 60-day period.

While HUD welcomes comments on the entirety of the demonstration, it asks that commenters consider the following specific questions:

(1) In administering and evaluating the demonstration, how should HUD define “economic mobility”?

(2) How can HUD tailor the Economic Empowerment Pillar of the Demonstration to identify and focus on families and individuals residing in HUD-assisted housing that are able to work, and not those who are elderly or include persons with disabilities;

(3) How can HUD and identified partners (state and local entities, private sector, philanthropic, non-profit and other entities) best maximize existing programs and efforts across agencies in a coordinated and holistic approach?

(4) What impediments exist for achieving the four pillars, including institutional, organizational, legal or statutory, and behavioral impediments? Is it necessary to the success of the demonstration that communities link all four pillars, and if not, would it be sufficient for a community to identify in its participation plan the barriers to including a specific pillar? Are there additional pillars that contribute to self-sufficiency and economic mobility that should be made part of the demonstration?

(5) What incentives and programs have worked in the past to achieve the four pillars?

(6) What elements and level of detail should HUD require in a community's participation plan?

(7) How should HUD define and measure economic mobility over time and space? How should HUD measure quality of life for residents that remain in assisted housing?

(8) What data sources or data linkage is needed to develop outcome metrics such as, return on investment, involvement of local institutions of higher learning, employment and economic opportunities for Section 3 residents and businesses, and a public process for reviewing outcomes and lessons learned?

Dated: December 5, 2017.
Benjamin S. Carson, Sr.,
Secretary.

[FR Doc. 2017-26684 Filed 12-11-17; 8:45 am]

BILLING CODE P